DEPARTMENT OF LABOR

Employment and Training Administration

[TA-W-73,676K]

Apria Healthcare Customer Service Department; Fourteen Locations in Missouri Cameron, Cape Girardeau, Columbia, Farmington, Fenton, Joplin, Lee's Summit, Pleasant Valley, Poplar Bluff, Rolla, Springfield, St. Joseph, St. Peters and Clinton, MO; Amended Certification Regarding Eligibility To Apply for Worker Adjustment Assistance

In accordance with Section 223 of the Trade Act of 1974, as amended (“Act”), 19 U.S.C. 2273, the Department of Labor issued a Certification of Eligibility to Apply for Worker Adjustment Assistance on August 20, 2010, applicable to workers of Apria Healthcare, Customer Service Department, Thirteen Locations in Missouri: Cameron, Cape Girardeau, Columbia, Farmington, Fenton, Joplin, Lee's Summit, Pleasant Valley, Poplar Bluff, Rolla, Springfield, St. Joseph and St. Peters, Missouri. The notice was published in the Federal Register on September 3, 2010 (75 FR 54185). The workers provide data entry and administrative services.

At the request of the State agency, the Department reviewed the certification for workers of the subject firm.

New findings show that worker separations occurred during the relevant time period at the Clinton, Missouri location of Apria Healthcare, Customer Service Department. The Clinton, Missouri location provided data entry services in the Customer Service Department.

Accordingly, the Department is amending the certification to include workers of the Clinton, Missouri location of Apria Healthcare, Customer Service Department.

The intent of the Department's certification is to include all workers of the subject firm who were adversely affected by a shift in data entry and administrative services to India.

The amended notice applicable to TA-W-73,676 is hereby issued as follows:

“All workers of Apria Healthcare, Customer Service Department, at the following locations: Birmingham and Mobile, Alabama (TA-W-73,676); Little Rock and Lowell, Arkansas (TA-W-73,676A); Bullhead City, Casa Grande, Gilbert, Prescott, Safford, Sierra Vista, Tucson, and Yuma, Arizona (TA-W-73,676B); Lancaster, Oceanside, Oxnard, Palm Desert, Rancho Cuca, Riverside, San Diego, Temecula, and Victorville, California (TA-W-73,676C); Durango, Colorado (TA-W-73,676D); Cromwell, Connecticut (TA-W-73,676E); Fort Myers, Gainesville, Hudson, Jacksonville, Lake City, Lakeland, Melbourne, Miramar, Ocala, Panama City, Pensacola, Sarasota, St. Augustine, Tallahassee, Tampa, and West Palm Beach, Florida (TA-W-73,676F); Athens, Columbus, Conyers, Duluth, Gainesville, Macon, Marietta, and Rome, Georgia (TA-W-73,676G); Collinsville, Illinois (TA-W-73,676H); Colby, Dodge City, Fort Scott, Independence, Salina, and Wichita, Kansas (TA-W-73,676I); Baton Rouge, New Orleans, and Shreveport, Louisiana (TA-W-73,676J); Cameron, Cape Girardeau, Columbia, Farmington, Fenton, Joplin, Lee's Summit, Pleasant Valley, Poplar Bluff, Rolla, Springfield, St. Joseph, St. Peters, and Clinton, Missouri (TA-W-73,676K); Biloxi, Mississippi (TA-W-73,676L); Arden, Morrisville, Southern Pines, and Wilmington, North Carolina (TA-W-73,676M); Albuquerque, Clovis, Farmington, Hobbs, and Roswell, New Mexico (TA-W-73,676N); Henderson and Sparks, Nevada (TA-W-73,676O); Tulsa, Oklahoma (TA-W-73,676P); Duncan, Florence, North Charles, and West Columbia, South Carolina (TA-W-73,676Q); Chattanooga, Clarksville, Cookeville, Jackson, Jefferson City, Memphis, Murfreesboro, Nashville, and Tullahoma, Tennessee (TA-W-73,676R); Amarillo, Austin, Beaumont, Corpus Christi, El Paso, Harlingen, Houston (two locations), Irving, League City, Lubbock, Midland, Nacodoches, and San Antonio, Texas (TA-W-73,676S); Layton and Salt Lake City, Utah (TA-W-73,676T); and Spokane, Washington (TA-W-73,676U), who became totally or partially separated from employment on or after March 8, 2009, through August 20, 2012, and all workers in the group threatened with total or partial separation from employment on the date of certification through two years from the date of certification, are eligible to apply for adjustment assistance under Chapter 2 of Title II of the Trade Act of 1974, as amended.”

Signed in Washington, DC, this 13th day of January 2011.
Michael W. Jaffe,
Certifying Officer, Office of Trade Adjustment Assistance.

[FR Doc. 2011-1619 Filed 1-25-11; 8:45 am]

BILLING CODE 4510-FN-P